FEDERAL MARITIME COMMISSION

Notice of Agreements Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011493-004.

Title: C&S Shipping Joint Service Agreement.

Parties: LauritzenCool AB, Seatrade Group N.V.

Synopsis: The proposed agreement modification adds New Zealand to the geographic scope.

Agreement No.: 011770-001.

Title: NSCSA/Oldendorff Slot Exchange Agreement.

Parties: National Shipping Company of Saudi Arabia, Oldendorff Carriers (Indotrans) Ltd.

Synopsis: The proposed agreement modification adds a clause excluding the trade from ports on the U.S. East Coast to Jeddah, Dammam, Port Rashid, Port Qasim, and JNPT (Mumbai) in the geographic scope.

Agreement No.: 011850.

Title: CMA CGM/CSCL Cross Space Charter, Sailing and Cooperative Working Agreement—North China, Japan/USWC Loop.

Parties: CMA CGM, S.A. (“CMA CGM”) China Shipping Container Lines (“CSCL”).

Synopsis: The proposed agreement would authorize CMA CGM and CSCL to operate a five-vessel service in the trade between the U.S. West Coast and ports in the Japan/South Korea/China/Southeast Asia range. CSCL will provide three of the vessels and CMA CGM will provide the other two vessels. The agreement authorizes the parties to agree on the number and size of the vessels to be operated as well as sailings, schedules, and port calls. The parties would also be authorized to engage in a limited range of cooperative activities relating to the chartering of space and the use of, among other things, facilities, services, and equipment.

Dated: April 25, 2003.
By Order of the Federal Maritime Commission.
Bryant L. VanBrakle,
Secretary.

[FR Doc. 03-10683 Filed 4-29-03; 8:45 am]

BILLING CODE 6730-01-P